UNITED STATES INSTITUTE OF PEACE

Sunshine Act Meeting

DATE/TIME: Thursday, January 30, 2003, 9:15 a.m.-5 p.m.

LOCATION: 1200 17th Street, NW., Suite 200, Washington, DC 20036.

STATUS: Open Session—Portions may be closed pursuant to Subsection (c) of Section 552(b) of Title 5, United States Code, as provided in subsection 1706(h)(3) of the United States Institute of Peace Act, Public Law 98-525.

AGENDA: January 2003 Board Meeting; Approval of Minutes of the One Hundred Seventh Meeting (November 21, 2002) of the Board of Directors; Chairman's Report; President's Report; Committee Reports; Program Reports; Review of Individual Grant Applications; Other Issues.

CONTACT: Mr. John Brinkley, Director, Office of Public Outreach, Telephone: (202) 457-1700.

Dated: January 16, 2003.
Harriet Hentges,
Executive Vice President, United States Institute of Peace.

[FR Doc. 03-1425 Filed 1-16-03; 4:33 pm]

BILLING CODE 6820-AR-M